NUCLEAR REGULATORY COMMISSION

[Docket No. 50-244]

R.E. Ginna Nuclear Power Plant, LLC; R.E. Ginna Nuclear Power Plant; Notice of Public Meeting To Obtain Comments on Request Regarding Proposed Release of Part of Site for Unrestricted Use

AGENCY: U.S. Nuclear Regulatory Commission.

ACTION: Notice of public meeting.

SUMMARY: The U.S. Nuclear Regulatory Commission (NRC) is conducting a meeting, pursuant to Section 50.83, “Release of part of a power reactor facility or site for unrestricted use,” of Part 50 of Title 10 of the Code of Federal Regulations (10 CFR), for purpose of obtaining comments from the public on the proposed release of part of the R.E. Ginna Nuclear Power Plant (Ginna Plant) site, located in Wayne County, New York.

DATES: The public meeting will be held on Wednesday, September 28, 2005, from 6 p.m. to 8 p.m. at the Ginna Plant Training Center, 1517 Lake Road Ontario, NY 14519.

Travel Information: From Rochester, take Interstate I-590 towards RT-590. Road name changes to SR-590. At exit 10B, take Ramp (Right) onto SR-104 towards RT-104/Webster. Turn LEFT (North) onto CR-102 (Lakeside Road). Turn RIGHT (East) onto CR-101 (Lake Road). Follow Lake Road to the Ginna Information Center.

Notification of Attendance: It is strongly encouraged that prospective participants contact NRC prior to the meeting to ensure adequate accommodations and to expedite the required visitor processing. Contact Shannine DiMora, telephone: (315) 524-6935; e-mail: sjd1@nrc.gov, and submit participant name and affiliated organization by September 23, 2005. Also, it is suggested that attendees limit the amount of personal items and electronic devices brought into the building. Those needing accommodations under the Americans with Disabilities Act or having special concerns should contact Thomas Harding, Ginna LLC, in advance at (585) 771-3384.

SUPPLEMENTARY INFORMATION: The NRC has received, by letter dated May 20, 2005, an application filed by R.E. Ginna Nuclear Power Plant, LLC (Ginna LLC) requesting the release of a part of the site for unrestricted use at its Ginna Plant. Before approving the proposed partial site release, the NRC will need to determine that the licensee has met the criteria set forth in Section 50.83 of 10 CFR Part 50. The tract of land proposed for release consists of two adjacent parcels, comprising a total of approximately 15 acres located along the western edge of the Ginna Plant site boundary, and is entirely outside of the Exclusion Area.

The NRC had previously provided notice in the Federal Register on July 11, 2005 (70 FR 39802) to individuals in the vicinity of the facility that the NRC was in receipt of a proposed request release of the part of the site and would accept written comments concerning this proposal by August 10, 2005. Furthermore, the NRC stated that, before acting upon this request, it would also conduct a public meeting in the vicinity of the Ginna Plant for the purpose of obtaining public comments. The NRC will consider and, if appropriate, respond to these written and verbal comments, but such comments will not otherwise constitute part of the decisional record. Comments received after the public meeting will be considered if practicable to do so, but only those comments received on or before the public meeting can be assured consideration.

Documents related to this action, including the application for approval and supporting documentation, are available for public inspection at the NRC's Public Document Room (PDR), located at One White Flint North, Public File Area O1 F21, 11555 Rockville Pike (first floor), Rockville, Maryland. Publicly available records will also be accessible electronically as text and image files from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov. The PDR reproduction contractor will copy documents for a fee.

FOR FURTHER INFORMATION CONTACT: Patrick D. Milano, Senior Project Manager, Section 1, Project Directorate I, Division of Licensing Project Management, Office of Nuclear Reactor Regulation, U.S. Nuclear Regulatory Commission, Washington, DC 20555. Telephone: 301-415-1457; fax no: 301-415-2102; e-mail: pdm@nrc.gov.

Dated at Rockville, Maryland this 7th day of September, 2005.
For the Nuclear Regulatory Commission.
Patrick D. Milano,
Senior Project Manager, Section 1, Project Directorate I, Division of Licensing Project Management, Office of Nuclear Reactor Regulation.

[FR Doc. 05-18194 Filed 9-13-05; 8:45 am]

BILLING CODE 7590-01-P